DEPARTMENT OF DEFENSE

Department of the Navy

[Docket ID: USN-2022-HQ-0021]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by November 28, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Application for Commission in the U.S. Navy/U.S. Naval Reserve; NAVCRUIT Forms 1131/238 and 1130/104; OMB Control Number 0703-0029.

Type of Request: Revision.

Application Processing and Summary Record (NAVCRUIT 1131/238)

Number of Respondents: 25,500.

Responses per Respondent: 1.

Annual Responses: 25,500.

Average Burden per Response: 60 minutes.

Annual Burden Hours: 25,500.

United States Navy Tattoo Screening Certificate (NAVCRUIT 1130/104)

Number of Respondents: 18,000.

Responses per Respondent: 1.

Annual Responses: 18,000.

Average Burden per Response: 30 minutes.

Annual Burden Hours: 9,000.

Total

Number of Respondents: 25,500.

Annual Responses: 43,500.

Annual Burden Hours: 34,500.

Needs and Uses: All persons interested in entering the U.S. Navy or U.S. Navy Reserve in a commissioned status must provide various personal data in order for a selection board to determine their qualifications for naval service and for specific fields of endeavor that the applicant intends to pursue. The NAVCRUIT 1131/238 form, “Application Processing and Summary Record,” is used to collect information from any persons who are applying to the U.S. Navy. The NAVCRUIT 1130/104 form, “United States Navy Tattoo Screening Certificate” is used to collect information from the applicant in order to determine whether tattoos, body art or brands meets Navy accession requirements for content, location, size and cosmetic appearance.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: October 24, 2022.
Kayyonne T. Marston,
Alternate OSD Federal Register Liaison Officer, Department of Defense.

[FR Doc. 2022-23439 Filed 10-26-22; 8:45 am]

BILLING CODE 5001-06-P